DEPARTMENT OF LABOR

Employee Benefits Security Administration

Agency Information Collection Activities; Announcement of OMB Approval

AGENCY: Employee Benefits Security Administration, DOL.

ACTION: Notice.

SUMMARY: The Employee Benefits Security Administration (EBSA) is announcing that a collection of information regarding the Employee Benefit Plan Claims Procedure under the Employee Retirement Income Security Act of 1974 (ERISA) has been approved by the Office of Management and Budget (OMB) under the Paperwork Reduction Act of 1995. This document announces the OMB approval number and expiration date.

FOR FURTHER INFORMATION CONTACT: Gerald B. Lindrew, U.S. Department of Labor, Employee Benefits Security Administration, 200 Constitution Avenue, NW., Washington, DC 20210. Telephone: (202) 693-8414. This is not a toll-free number.

SUPPLEMENTARY INFORMATION: In the Federal Register of October 6, 2003, the EBSA announced its intent to request renewal of its current OMB approval for the information collection request incorporated in the Employee Benefit Plan Claims Procedures under ERISA. In accordance with the Paperwork Reduction Act of 1995 (44 U.S.C. 3501-3520), OMB has renewed its approval for the information collection under OMB control number 1210-0053. The approval expires on February 28, 2007. Under 5 CFR 1320.5(b), an Agency may not conduct or sponsor, and a person is not required to respond to, a collection of information unless the collection displays a valid control number.

Dated: March 16, 2004.
Gerald B. Lindrew,
Deputy Director, Office of Policy and Research, Employee Benefits Security Administration.

[FR Doc. 04-6445 Filed 3-22-04; 8:45 am]

BILLING CODE 4510-29-P